JUDICIAL CONFERENCE OF THE UNITED STATES

Hearings of the Judicial Conference Advisory Committee on the Federal Rules of Civil Procedure

AGENCY: Advisory Committee on the Federal Rules of Civil Procedure, Judicial Conference of the United States.

ACTION: Notice of cancellation of public hearing.

SUMMARY: The following public hearing on proposed amendments to the Federal Rules of Civil Procedure has been canceled: Civil Rules Hearing on October 28, 2019, in Washington, DC.

FOR FURTHER INFORMATION CONTACT: Rebecca A. Womeldorf, Rules Committee Secretary, Rules Committee Staff, Administrative Office of the United States Courts, Washington, DC 20544, telephone (202) 502-1820.

SUPPLEMENTARY INFORMATION: Announcements for this hearing were previously published in 84 FR 42951.

Dated: October 17, 2019.
Rebecca A. Womeldorf,
Rules Committee Secretary.

[FR Doc. 2019-23033 Filed 10-22-19; 8:45 am]

BILLING CODE 2210-55-P